DEPARTMENT OF HOMELAND SECURITY

Bureau of Customs and Border Protection

[CBP Decision 03-35]

Customs Accreditation of SGS North America, Inc. as a Commercial Laboratory

AGENCY: Customs and Border Protection, Department of Homeland Security.

ACTION: Notice of accreditation of SGS North America, Inc. of Sulfur, Louisiana, as a commercial laboratory.

SUMMARY: SGS North America, Inc. of Sulfur, Louisiana has applied to Customs and Border Protection under § 151.12 of the Customs Regulations for accreditation as a commercial laboratory to analyze petroleum products under chapter 27 and chapter 29 of the Harmonized Tariff Schedule of the United States (HTSUS). Customs has determined that this company meets all of the requirements for accreditation as a commercial laboratory. Specifically, SGS North America, Inc. has been granted accreditation to perform the following test methods at their Sulfur, Louisiana site: (1) Water in Petroleum Products and Bituminous Materials by Distillation, ASTM D95; (2) API Gravity of Crude Petroleum and Petroleum Products by Hydrometer, ASTM D287; (3) Sediment in Crude Oils by Extraction, ASTM D473; (4) Density, Relative Density (Specific Gravity), or API Gravity of Crude Petroleum and Liquid Petroleum Products by Hydrometer, ASTM D1298; (5) Water in Crude Oil by Distillation, ASTM D4006; (6) Water and Sediment in Crude Oil by the Centrifuge Method, ASTM D4007; and (7) Sulfur in Petroleum and Petroleum Products by Energy-Dispersive X-Ray Fluorescence Spectroscopy, ASTM D4294. Therefore, in accordance with § 151.12 of the Customs Regulations, SGS North America, Inc. of Sulfur, Louisiana is hereby accredited to analyze the products named above.

Location: SGS North America, Inc. accredited site is located at: 4701 East Napoleon (Hwy 90), Sulfur, LA 70663.

EFFECTIVE DATE: December 16, 2003.

FOR FURTHER INFORMATION CONTACT: Arlene Faustermann, Science Officer, Laboratories and Scientific Services, Customs and Border Protection, 1300 Pennsylvania Avenue NW., Suite 1500 North, Washington, DC 20229, (202) 344-1060.

Dated: December 16, 2003.
Ira S. Reese,
Executive Director, Laboratories and Scientific Services.

[FR Doc. 03-31760 Filed 12-23-03; 8:45 am]

BILLING CODE 4820-02-P